DEPARTMENT OF HEALTH AND HUMAN SERVICES

Announcement of the Availability of the Physical Activity Guidelines Advisory Committee Report, and a Public Comment Period

AGENCY: Department of Health and Human Services, Office of the Secretary, Office of Public Health and Science.

ACTION: Notice.

AUTHORITY: 42 U.S.C. 217a, section 222 of the Public Health Service Act, as amended. The Committee is governed by the provision of Public Law 92-463, as amended (5 U.S.C. Appendix 2), which sets forth standards for the formation and use of advisory committees.

SUMMARY: The U.S. Department of Health and Human Services (HHS) (a) announces the availability of the Physical Activity Guidelines Advisory Committee Report, 2008; and (b) solicits written comments on the Report. The Physical Activity Guidelines Advisory Committee was charged with reviewing existing scientific literature to identify where there was sufficient evidence to develop a comprehensive set of specific physical activity recommendations. The report to the Secretary of HHS documents the scientific background and rationale for the issuance of physical activity guidelines. The report also identifies areas where further scientific research is needed. The Committee's evaluation of the science will be utilized by the Department to prepare the Physical Activity Guidelines for Americans. The intent is to issue physical activity guidelines for all Americans that will be tailored as necessary for specific subgroups of the population.

DATES: (a) The report of the Physical Activity Guidelines Advisory Committee (the Committee) will be available for comments on June 20, 2008. (b) Written comments on the Committee's report can be submitted and must be received on or before July 10, 2008.

ADDRESSES: (a) The final Report of the Committee is available electronically at http://www.health.gov/PAguidelines or in hard copy for viewing at Suite LL100, 1101 Wootton Parkway, Rockville, Maryland 20852. (b) Comments may be submitted in any of three ways: (1) Through the comments link at http://www.health.gov/PAguidelines; (2) by e-mail to PA.guidelines@hhs.gov; or (3) mailed to CAPT Richard Troiano, HHS Office of Disease Prevention and Health Promotion, Office of Public Health and Science, 1101 Wootton Parkway, Suite LL100, Rockville, Maryland 20852, (phone 240-453-8280).

FOR FURTHER INFORMATION CONTACT: CAPT Richard Troiano, Executive Secretary, Physical Activity Guidelines Advisory Committee, Department of Health and Human Services, Office of Public Health and Science, Office of Disease Prevention and Health Promotion, Room LL-100, 1101 Wootton Parkway, Rockville, MD 20852, 240-453-8280 (telephone), 240-453-8281 (fax). Additional information is available on the Internet at http://www.health.gov/PAguidelines.

SUPPLEMENTARY INFORMATION:

I. Physical Activity Guidelines Advisory Committee Report

The thirteen-member Physical Activity Guidelines Advisory Committee was appointed by the U.S. Department of Health and Human Services in June 2007 to assist the Department in providing sound and current physical activity guidance to Americans. The Committee has finalized its recommendations and submitted its report to the Secretary, Department of Health and Human Services. This Report will serve as the basis for the first edition of the Physical Activity Guidelines for Americans, which HHS expects to publish in October 2008.

The Report of the Physical Activity Guidelines Advisory Committee, 2008 is available electronically at http://www.health.gov/PAguidelines or in hard copy for viewing (refer to the ADDRESSES section, above).

II. Written Comment

By this notice, HHS is soliciting submission of written comments related to the Committee's Report, as well as views, information and data pertinent to preparation of the Physical Activity Guidelines for Americans. The Committee's Report will not be amended in response to comments. However, all comments will be considered in the preparation of the Physical Activity Guidelines for Americans. Comments must be received by July 10, 2008 to assure consideration. Comments may be submitted in any of three ways: (1) Through the comments link at http://www.health.gov/PAguidelines; (2) by e-mail to PA.guidelines@hhs.gov; or (3) mailed to CAPT Richard Troiano, HHS Office of Disease Prevention and Health Promotion, Office of Public Health and Science, 1101 Wootton Parkway, Suite LL100, Rockville, Maryland 20852, (phone 240-453-8280).

For those submitting written comments more than 5 pages in length, please provide a 1-page summary of key points related to the comments submitted.

Dated: June 16, 2008.
Sarah R. Linde-Feucht,
Deputy Director, Office of Disease Prevention and Health Promotion.

[FR Doc. E8-13952 Filed 6-19-08; 8:45 am]

BILLING CODE 4150-32-P